DEPARTMENT OF JUSTICE

Bureau of Justice Statistics

[OMB Number 1121-0094]

Agency Information Collection Activities: Existing Collection; Comments Requested

ACTION: 60-Day Notice of Information Collection Under Review: Extension of a Currently Approved Collection; Annual Survey of Jails.

The Department of Justice (DOJ), Bureau of Justice Statistics, will be submitting the following information collection request to the Office of Management and Budget (OMB) for review and approval in accordance with the Paperwork Reduction Act of 1995. The proposed information collection is published to obtain comments from the public and affected agencies. Comments are encouraged and will be accepted for “sixty days” until March 12, 2010. This process is conducted in accordance with 5 CFR 1320.10.

If you have comments especially on the estimated public burden or associated response time, suggestions, or need a copy of the proposed information collection instrument with instructions or additional information, please contact Todd D. Minton, Bureau of Justice Statistics, 810 Seventh Street, NW., Washington, DC 20531 (phone: 202-305-9630).

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Revisions of a currently approved collection.

(2) Title of the Form/Collection: The Annual Survey of Jails (ASJ). The collection includes the forms: Annual Survey of Jails (ASJ)-regular and long form, Survey of Jails in Indian Country (SJIC)-regular form and addendum, and the Survey of Large Jails (SLJ).

(3) Agency form number, if any, and the applicable component of the Department of Justice sponsoring the collection: Form number(s): CJ-5 and CJ-5A (ASJ regular form), CJ-5 and CJ-5A (ASJ long form), CJ-5B (SJIC form), CJ-5B Addendum (SJIC), and CJ-5C (SLJ form). Corrections Statistics Unit, Bureau of Justice Statistics, Office of Justice Programs, United States Department of Justice.

(4) Affected public who will be asked or required to respond, as well as a brief abstract:

Primary: County, City, and Tribal jail authorities. This collection is the only effort that provides an ability to maintain important jail statistics in years between jail censuses. The ASJ series enables the Bureau; Federal, State, local, and Tribal correctional administrators; legislators; researchers; and planners to track growth in the number of jails and their capacities nationally; as well as, track changes in the demographics and supervision status of jail population and the prevalence of crowding. Information collected in the long form and survey addendums provide critical data on jail population movements and inmate mental and medical health services and other programs available to confined inmates.

For CJ-5 and CJ-5A (ASJ regular form), 561 respondents from county and city jails will be asked to provide information for the following categories:

(a) At midyear (last weekday in the month of June), the number of inmates confined in jail facilities including; male and female adult and juvenile inmates; persons under age 18 held as adults; convicted and unconvicted males and females; race categories; held for Federal authorities, State prison authorities and other local jail jurisdictions;

(b) At midyear, the number of persons under jail supervision who were not U.S. citizens;

(c) Whether the jail facilities has a weekend incarceration program prior to midyear and the number of inmates participating;

(d) The number of new admissions into and final discharges from jail facilities during the last week in June;

(e) The date and count for the greatest number of confined inmates during the 30-day period in June;

(f) The average daily population of jail facilities from July 1 of the previous year to June 30 of the current collection year;

(g) At midyear, the total rated capacity of jail facilities;

(h) At midyear, the number of persons under jail supervision but not confined (e.g., electronic monitoring, day reporting, etc.).

For CJ-5B (SJIC form), respondents from 85 Indian country correctional facilities operated by tribal authorities or the Bureau of Indian Affairs (BIA) will be asked to provide information for the following categories:

(a) At midyear (last weekday in the month of June), the number of inmates confined in jail facilities including; male and female adult and juvenile inmates; persons under age 18 held as adults; convicted and unconvicted males and females; persons held for a felony, misdemeanor; their most serious offense (e.g., domestic violence offense, aggravated or simple assault, driving while intoxicated, etc.).

(b) The average daily population during the 30-day period in June;

(c) The date and count for the greatest number of confined inmates during the 30-day period in June;

(d) The number of new admissions into and final discharges during the month of June;

(e) From July 1 of the previous year to June 30 of the current collection year: the number of inmate deaths while confined and the number of deaths attributed to suicide and the number of confined inmates that attempted suicide;

(f) At midyear, the total rated capacity of jail facilities;

(g) At midyear, the inmate housing characteristics and the number held (e.g., single occupied cells or rooms, multiple occupied units originally designed for single occupancy; multiple occupied units designed for multiple occupancy, temporary holding areas, etc.);

(h) At midyear, whether or not the jail facility was under a Tribal, State, or Federal court order or consent decree to limit the number of persons it can house (and the count), and/or for conditions of confinement;

(i) At midyear, the number of male and female correctional staff employed by the facility and their occupation (e.g., administration, jail operations, educational staff, etc.);

(j) At midyear, how many jail operations employees had received the basic detention officer certification and how many had received 40 hours of in-service training;

(k) From July 1 of the previous year to June 30 of the current collection year: how many jail operation employees did the facility hire for employment; how many jail operation employees were separated from employment in the facility;

(l) At midyear, how many specific jail operation employee positions were vacant.

The ASJ long form (CJ-5 and CJ-5A), the SLJ (CJ-5C), and the SJIC survey addendum (CJ-5B Addendum) provides BJS a vehicle to gather expanded, yet critical information from jails on:

• Flows of inmates going through jails and describing the jail inmate population that reflect jail workload;

• Length of stay in jail and the contribution of length of stay to jail populations;

• Medical, mental health, and substance abuse treatment services issues in jails;

• Suicide prevention, domestic violence counseling, sex offender treatment, educational programs, and inmate work assignments, and other inmate programs;

• Staff characteristics and assaults on staff resulting in death.

For CJ-5 and CJ-5A (ASJ long form), in addition to similar information collected on the regular form, 373 respondents that are included with certainty in the ASJ sample survey will be asked to provide expanded and additional information for the following categories:

(a) Expanded information on: The number of convicted inmates that are unsentenced or sentenced and the number of unconvicted inmates awaiting trial/arraignment, or transfers/holds for other authorities; persons discharged from jails to include the timed served by convicted and unconvicted inmates;

(b) Expanded information on the number of confined inmates held for reasons including detoxification holds only, persons held for protective custody, for contempt, or for the courts as witnesses;

(c) At midyear, the number of correctional officers and other staff employed by jail facilities;

(d) From July 1 of the previous year to June 30 of the current collection year: the number of inmate-inflicted physical assaults (and counts) on correctional officers and other staff and the number of staff deaths as a result.

For the CJ-5B Addendum (SJIC), a one-time collection between 2010 and 2012 will be administered to 85 respondents. Information for the following categories will be requested:

(a) How does the facility provide medical health services to inmates (e.g., on-site staff physicians, IHS, off-site medical services, etc.);

(b) At midyear, whether the jail facilities detoxify confined persons (and count) from drugs or alcohol;

(c) Policy for testing inmates for Tuberculosis, Hepatitis B and C, and the Human Immunodeficiency Virus (HIV) that causes aids (e.g., at admission, at regular intervals, random sample, indication of need, etc.);

(d) How does the facility provide mental health services to inmates (e.g., screen inmates at intake, 24-hour mental health care; counseling by a trained mental health professional, monitor the use of psychotropic medications, assist released inmates to obtain community mental health services, etc.);

(e) Types of specific suicide prevention procedures (e.g., assessment of risk at intake, special inmate counseling or psychiatric services, monitoring of high risk inmates; suicide, etc.);

(f) From July 1 of the previous year to June 30 of the current collection year, whether facility has inmate work assignments and the types of assignments;

(g) From July 1 of the previous year to June 30 of the current collection year, counseling or special programs available to confined persons either on or off facility grounds (e.g., drug/alcohol counseling/awareness, domestic violence counseling, etc.);

(h) From July 1 of the previous year to June 30 of the current collection year, educational programs available to confined persons either on or off facility grounds.

For CJ-5C (SLJ form), a one-time collection between 2010 and 2012 will be administered to 210 respondents from the largest county and city jails. Information on mental and medical health and substance abuse treatment services issues will be requested:

Mental health treatment and services

(a) During the 31-day period in (month), the number of new admissions to the jail facility that are male and female, adult and juvenile inmates;

(b) Whether the jail facility conducts mental health screening at intake, the type(s) of screening instruments, and when does the screening process occur (e.g., within 24 hours of booking, in an emergency or crisis situation, etc.);

(c) Who conducts the mental health screener (e.g., correctional staff, mental health professional, etc.);

(d) During the 31-day period in (month), the number of persons with new admissions to the jail facility that were screened at intake for mental health disorders or emotional problems and the number determined to have a major depressive symptoms, major manic symptoms, major psychotic symptoms;

(e) What services to inmates are provided when the intake screening reveals a mental health disorder (e.g., referral for further testing/assessment, contacted a mental health professional, moved to a special housing facility and under special observation, etc.);

(f) During the 31-day period in (month), the number of inmates who received mental health treatment and the type(s) of treatment;

(g) Designated area with a beds allocated under the authority of a physician with mental health services and 24 hour nursing coverage? How many beds are for inmates and the number of beds occupied;

(h) Jail facility discharge plan for inmates who needed mental health care? Who provides this service linkage? What agencies administer this service? What agency pays for this service.

Substance abuse treatment and services and other programs

(i) Whether the jail facility conducts medical detoxification on confined persons and the number of persons who were being detoxified;

(j) During the 31-day period in (month), the number of persons with new admissions to the jail facility that:

(1) Were tested for the use of drugs at intake and how many tested positive;

(2) Participated in counseling or special programs (e.g., drug/alcohol counseling/awareness, domestic violence counseling, etc.);

(3) Participated in an education program (e.g., basic adult education (ABE), GED program, and college level classes, etc.).

(5) An estimate of the total number of respondents and the amount of time estimated for an average respondent to respond: Six hundred and forty-six respondents each taking an average 75 minutes to respond for collection forms CJ-5 and CJ-5A (regular ASJ form), and CJ-5B (SJIC form). Three hundred and seventy-three respondents each taking 120 minutes to respond for collection forms CJ-5 and CJ-5A (ASJ long form). Eighty-five respondents each taking an average of 30 minutes to respond for collection form CJ-5B Addendum (SJIC). Two hundred and ten respondents each taking an average of 4 hours to respond for collection form CJ-5C (SLJ form).

(6) An estimate of the total public burden (in hours) associated with the collection: There are an estimated 2,436 total burden hours associated with this collection.

If additional information is required contact: Lynn Bryant, Department Clearance Officer, United States Department of Justice, Justice Management Division, Policy and Planning Staff, Patrick Henry Building, Suite 1600, 601 D Street, NW., Washington, DC 20530.

Dated: January 5, 2010.
Lynn Bryant,
Department Clearance Officer, PRA, U.S. Department of Justice.

[FR Doc. 2010-170 Filed 1-8-10; 8:45 am]

BILLING CODE 4410-18-P